DEPARTMENT OF JUSTICE

Notice of Lodging of Consent Decree Under the Clean Water Act

Under 28 CFR 50.7, notice is hereby given that on July 5, 2005, a proposed Consent Decree in United States v. Licking County, Civil Action No. C2-05-661, was lodged with the United States District Court for the Southern District of Ohio.

This Consent Decree resolves specified claims against Licking County, Ohio under the Clean Water Act, 33 U.S.C. 1251 et seq. Licking County owns and operates a publicly-owned wastewater treatment works (“POTW”), and it discharges effluent from the POTW through an outfall into the South Fork of the Licking River, a navigable water of the United States. Licking County also disposes of sewage sludge from the POTW through land application.

The proposed consent decree requires Licking County to (1) comply with its discharge permit, including interim limitations on bypasses; (2) implement a Compliance Assurance Plan (“CAP”), which includes significant capital and operational changes for its entire POTW (worth an estimated present-value cost of approximately $10 million); and (3) pay civil penalties of $75,000 that will be split equally between the United States and the State of Ohio.

The Department of Justice will receive for period of thirty (30) days from the date of this publication comments relating to the proposed consent decree. Comments should be addressed to the Assistant Attorney General, Environment and Natural Resources Division, P.O. Box 7611, U.S. Department of Justice, Washington, DC 20044-7611, and should refer to United States and State of Ohio v. Licking County, D.J. Ref. 90-5-1-1-4500.

The proposed consent decree may be examined at U.S. EPA Region V, 77 West Jackson Blvd., Chicago, IL 60604-3590. During the public comment period, the proposed consent decree may also be examined on the following Department of Justice Web site, http://www.usdoj.gov/enrd/open.html. A copy of the proposed consent decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy of the proposed consent decree, please enclose a check in the amount of $12.50, payable to the U.S. Treasury, for reproduction costs.

William D. Brighton,
Assistant Chief, Environmental Enforcement Section, Environment and Natural Resources Division.

[FR Doc. 05-14272 Filed 7-19-05; 8:45 am]

BILLING CODE 4410-15-M